DEPARTMENT OF COMMERCE

National Oceanic and Atmospheric Administration

[RTID 0648-XE390]

North Pacific Fishery Management Council; Public Meeting

AGENCY: National Marine Fisheries Service (NMFS), National Oceanic and Atmospheric Administration (NOAA), Commerce.

ACTION: Notice of hybrid meeting.

SUMMARY: The North Pacific Fishery Management Council (Council) Bering Sea Fishery Ecosystem Plan Climate Change Taskforce (CCTF) will meet November 6, 2024.

DATES: The meeting will be held on Wednesday, November 6, 2024 through Thursday, November 7, 2024, from 9 a.m. to 4 p.m., Alaska Time.

ADDRESSES: For members attending in Juneau, the in-person component of the meeting will be held at the Juneau Federal Building, 709 W 9th St., Juneau, AK 99801. If you are attending virtually, join the meeting online through the link at https://meetings.npfmc.org/Meeting/Details/3063.

Council address: North Pacific Fishery Management Council, 1007 W 3rd Ave, Suite 400, Anchorage, AK 99501-2252; telephone: (907) 271-2809. Instructions for attending the meeting are given under SUPPLEMENTARY INFORMATION, below.

FOR FURTHER INFORMATION CONTACT: Dr. Diana Stram, Council staff; phone: (907) 271-2809 and email: diana.stram@noaa.gov. For technical support, please contact our administrative staff; email: npfmc.admin@noaa.gov.

SUPPLEMENTARY INFORMATION:

Agenda

Wenesday, November 6, 2024 Through Thursday, November 7, 2024

The agenda will include: (a) reflect on climate scenarios workshop; (b) recap of workplan, process and outcomes; (c) CCTF recommendations moving forward; (d) final report drafting and review; and (e) other business. The agenda is subject to change, and the latest version will be posted at https://meetings.npfmc.org/Meeting/Details/3063 prior to the meeting, along with meeting materials.

Connection Information

You can attend the meeting online using a computer, tablet, or smart phone; or by phone only. Connection information will be posted online at: https://meetings.npfmc.org/Meeting/Details/3063.

Public Comment

Public comment letters will be accepted and should be submitted electronically to https://meetings.npfmc.org/Meeting/Details/3063.

Authority: 16 U.S.C. 1801 et seq.

Dated: October 16, 2024.
Alyssa Weigers,
Acting Deputy Director, Office of Sustainable Fisheries, National Marine Fisheries Service.

[FR Doc. 2024-24249 Filed 10-18-24; 8:45 am]

BILLING CODE 3510-22-P